DEPARTMENT OF HEALTH AND HUMAN SERVICES

National Institutes of Health

Announcement of Requirements and Registration for “Stories of Basic Science to Medical Advances” Challenge

Authority: 15 U.S.C. 3719.

SUMMARY: The National Institute of General Medical Sciences (NIGMS), one of the components of the National Institutes of Health (NIH), announces a challenge titled “Stories of Basic Science to Medical Advances.” This Challenge aims to track medical advances stemming from NIGMS-supported basic science.

DATES: Submission Period: July 21, 2014—October 20, 2014.

Judging Period: October 21, 2014—November 20, 2014.

Winners announced: 14 days after judging is complete.

FOR FURTHER INFORMATION CONTACT: Darren Sledjeski, Ph.D. 301-594-0943, nigms_challenges@mail.nih.gov.

SUPPLEMENTARY INFORMATION: The mission of NIGMS is to support basic, non-disease-targeted research that increases understanding of life processes and lays the foundation for advances in disease diagnosis, treatment, and prevention. NIGMS-funded researchers seek to answer important scientific questions to increase our knowledge about the mechanisms and pathways involved in diseases and develop new tools and techniques that have medical applications. NIGMS' strategic plan states that one of its goals is to “advance awareness and understanding of the basic biomedical research enterprise, including its value, requirements, and potential impact.” Accomplishing this goal, however, can be difficult because the path between basic discoveries and their applications is often long, and the connections can be hard to track.

In addition to tracking the medical advances stemming from NIGMS-supported science, the Challenge is also intended to attract more interest and attention to the basic science research funded by NIGMS; stimulate innovation by acknowledging the key role that NIGMS funded research plays in laying the foundation for advances in disease diagnosis, treatment and prevention; and advance the statutory purpose of NIGMS to “conduct and support research and health information dissemination with respect to general or basic medical sciences and related natural and behavioral sciences which have significance for two or more other national research institutes or are outside the general area of responsibility of any other national research institute.” 42 U.S.C. 285k.

Subject of Challenge: NIH seeks the public's help in capturing NIGMS' progress toward its strategic goal to “advance awareness and understanding of the basic biomedical research enterprise, including its value, requirements, and potential impact.” The goal of the Challenge is to identify past advances that are serving (or have served) to improve human health and well-being but not ongoing studies that may, in the future, have a major impact. NIGMS will use these examples to help inform the historical context of scientific breakthroughs and NIGMS' role in supporting them. These examples will augment the institute's ongoing efforts to link advances in human health and well-being to taxpayer-supported basic research and to stimulate further innovation by explaining the value and the impact of basic research on human health.

Eligibility Rules for Participating in the Challenge; Official Rules: The Challenge is open to any “Contestant.” A “Contestant” may be (i) an entity or (ii) an individual or group of individuals (i.e., a team), each of whom is a U.S. citizen or permanent resident of the United States and 18 years of age or older. Contestants may submit more than one entry.

1. To be eligible to win a prize under this Challenge, the Contestant

a. Shall have registered to participate in the Challenge under these rules.

b. Shall have complied with all the requirements set forth in this Notice.

c. To the extent a private entity shall be incorporated in and maintain a primary place of business in the United States, and to the extent an individual, whether participating singly or in a group, shall be a citizen or permanent resident of the United States.

d. May not be a Federal entity.

e. May not be a Federal employee acting within the scope of the employee's employment and, further, in the case of HHS employees, may not work on their submission(s) during assigned duty hours.

i. Note, Federal employees seeking to participate in this Challenge outside the scope of their employment should consult their ethics official prior to developing their submission.

f. May not be an employee of the NIH, NIGMS, a judge of the Challenge, or any other party involved with the design, production, execution, or distribution of the Challenge or the immediate family of such a party (i.e., spouse, parent, step-parent, sibling, step-sibling, child, or step-child).

2. Federal grantees may not use Federal funds to develop their Challenge submissions unless consistent with the purpose of their grant award.

3. Federal contractors may not use Federal funds from a contract to develop their Challenge submissions or to fund efforts in support of their Challenge submissions.

4. Submissions must not infringe upon any copyright or any other rights of any third party.

5. By participating in this Challenge, each individual agrees to assume any and all risks and waive claims against the Federal government and its related entities, except in the case of willful misconduct, for any injury, death, damage, or loss of property, revenue, or profits, whether direct, indirect, or consequential, arising from participation in this Challenge, whether the injury, death, damage, or loss arises through negligence or otherwise.

6. Based on the subject matter of the Challenge, the type of work that it will possibly require, as well as an analysis of the likelihood of any claims for death, bodily injury, property damage, or loss potentially resulting from Challenge participation, individuals are not required to obtain liability insurance or demonstrate financial responsibility in order to participate in this Challenge.

7. By participating in this Challenge, each individual agrees to indemnify the Federal government against third party claims for damages arising from or related to Challenge activities.

8. A Contestant shall not be deemed ineligible because the individual or entity used Federal facilities or consulted with Federal employees during the Challenge if the facilities and employees are made available to all individuals and entities participating in the Challenge on an equitable basis.

9. By participating in this Challenge, each Contestant grants to NIGMS irrevocable, paid-up, royalty-free nonexclusive worldwide license to post, link to, share, and display publicly on the Web the submitted document. All Contestants will retain all other intellectual property rights in their submissions.

10. Contestants must comply with all terms and conditions of these Official Rules, and participation in this Challenge constitutes each Contestant's full and unconditional agreement to abide by these Official Rules which can also be found on the NIGMS Web site. Winning is contingent upon fulfilling all requirements herein.

Submission Requirements: The submission is a written document that describes the basic research and how it directly led to improvements in human health, well-being, or other tangible benefits to the public NIGMS support must have played a major/critical role in one or more of the underlying discoveries, but a history of continuous or exclusive NIGMS support is not required. The subject of the submission must fall into one or both of the following categories:

1. Major advances funded by NIGMS that have led to improvements in human health, well-being, or other tangible benefits to the public.

2. Applications in medicine, industry, technology or elsewhere that have their roots in NIGMS-funded research projects. Examples include commonly used diagnostics, therapeutics, devices or technologies used in medical, industrial, agricultural or other fields.

Submissions are limited to 2500 words and must be clearly written in English, substantially free of scientific jargon, and understandable by readers without scientific/technical backgrounds. A complete submission includes:

• A brief historical background that puts the research in context. For example, why were scientists studying the system(s)? What were the most pressing research questions in the field at the time? What was already known prior to the key discovery? Were there competing hypotheses?

• The advance(s), the researchers most responsible for them, and the relevant NIGMS-funded projects that supported the work. Include references to seminal papers.

• An explanation of how the advance(s) led to the application(s). Reference relevant papers, collaborations, synergies or other factors that catalyzed the development of the application(s). Include the role of other funding sources, if known.

• A description of the impact of the application(s) on people's lives. If possible, provide quantitative information on economic impact and/or return on investment. Measures could include reduced mortality, reduced health care costs, improvements in quality of life, tangible contributions to the United States economy, etc.

Contestants may submit more than one submission. However, the advances(s) and application(s) described in each submission must be distinct. If a Contestant enters substantially similar submissions, as determined by NIGMS, the institute may disqualify the later entries or require the Contestant to choose one entry to enter into the Challenge.

Contestants have the option to include a link to a public or unlisted video on YouTube.com, Vimeo.com, or other internet accessible site with interviews or other material best displayed by video that supports the written submission. The submission may be disqualified if the video is primarily promotional, as determined by NIGMS. If a video is submitted, it must:

• Be in English if dialogue is present;

• Be no longer than five minutes. Any part of a video exceeding five minutes will be disregarded;

• Not include music or other copyrighted material unless the Contestant has obtained written permission to use such material;

• Not include proprietary information; and

• For any video with dialogue, captioning must be included.

○ The video must remain posted at the URL submitted with the entry for at least one year after the Challenge closes. The video (or the link to it) may be displayed publicly on the NIGMS Web site.

○ Before posting a video online, a Contestant must obtain consent from anyone appearing in the video. If a minor appears in the video, the contestant must obtain consent from the minor's parent or legal guardian.

Registration and Submission Process for Participants: The registration and submission process for entering the Challenge can be found at: http://www.nigms.nih.gov/About/NIGMSAdvanceTracingChallenge/

Amount of the Prize: The Challenge may have no more than 10 winning submissions. Winning submissions will receive an award of $500 and recognition on the NIGMS Web site and other outlets. If two or more submissions describe the same general advance and are judged to be equally meritorious, the prize will go to either the first submitted submission or the prize will be split between or among the Contestants at the discretion of NIGMS. If a team submits a winning entry, a single $500 prize will be awarded to that team. Winning is contingent upon fulfilling all requirements of the Challenge rules. The name, city, state, and submission of winning Contestants will be posted by 60 days after the close of the contest at http://www.nigms.nih.gov/About/NIGMSAdvanceTracingChallenge/).

The prize-approving official will be the Director of NIGMS. The winners will be notified by email, telephone, or mail after the date of the judging. Prizes awarded under this Challenge will be paid by electronic funds transfer and may be subject to Federal income taxes. HHS will comply with the Internal Revenue Service withholding and reporting requirements, where applicable.

NIGMS reserves the right to cancel, suspend, modify the Challenge, and/or not award any prizes if no entries are deemed worthy.

Basis Upon Which Submissions Will be Evaluated: Submissions will be judged by a qualified panel of NIGMS program directors and other employees. The panel will evaluate and select winning submissions based on the following judging criteria:

• Quality, clarity and historical accuracy (data are presented accurately)

• Impact of the advance on people's lives

• Impact of NIGMS funding on generating the advance

• Originality. The Challenge submission cannot have been previously published.

Additional Information: If Contestants choose to provide the NIGMS with personal information by providing a submission to this Challenge, that information will be used to respond to Contestants in matters regarding their submission, announcements of entry, finalists, and winners of the Challenge. Information is not collected for commercial marketing.

Dated: July 17, 2014.
Judith H. Greenberg,
Acting Deputy Director, National Institute of General Medical Sciences.

[FR Doc. 2014-17330 Filed 7-22-14; 8:45 am]

BILLING CODE 4140-01-P